DEPARTMENT OF TRANSPORTATION

Federal Motor Carrier Safety Administration

Notice of Fiscal Year 2010 Border Grant Funding and Solicitation for Applications

AGENCY: Federal Motor Carrier Safety Administration (FMCSA), DOT.

ACTION: Notice.

SUMMARY: FMCSA announces the availability of Fiscal Year (FY) 2010 Border Enforcement Grant (BEG) funding and solicits applications. Applications must be submitted at the Federal Grant Web site, http://www.grants.gov. Eligible projects for funding with BEG are identified in the Safe, Accountable, Flexible, Efficient Transportation Equity Act: A Legacy for Users.

DATES: The deadline for applications is July 30, 2010. If additional funding remains available, the Agency will consider applications submitted after July 30, 2010, on a case-by-case basis.

ADDRESSES: You must submit applications for BEG funding at the Federal Grant Web site, http://www.grants.gov.

FOR FURTHER INFORMATION CONTACT: Ms. Carla Vagnini, (202) 366-3771, Federal Motor Carrier Safety Administration, Office of Safety Programs, North American Borders Division (MC-ESB), 1200 New Jersey Avenue, SE., Washington, DC 20590. Office hours are from 7 a.m. to 4:30 p.m., ET., Monday through Friday, except Federal holidays.

SUPPLEMENTARY INFORMATION: The Consolidated Appropriations Act, 2010 [Pub. L 111-117, December 16, 2009, 123 Stat. 3034] provides grant funding for commercial motor vehicle (CMV) safety programs as authorized under the Safe, Accountable, Flexible, Efficient Transportation Equity Act: A Legacy for Users (SAFETEA-LU) [Pub. L. 109-59, August 10, 2005, 119 Stat. 1144]. This notice announces the availability of, and solicits applications for, approximately $6,000,000 in un-awarded FY 2010 funding for BEG projects.

Section 4110 of SAFETEA-LU established the BEG program. The purpose of this discretionary grant program is to provide funding for border CMV safety programs and related enforcement activities and projects. An entity or a State that shares a land border with another country is eligible to receive this grant funding. Eligible awardees include State governments, local governments, and entities (for example, an accredited post-secondary public or private educational institution such as a university). Requests from entities must be coordinated with the State lead CMV inspection agency. Planned activities must be conducted by State agencies, local governments, and organizations representing government agencies that use and train qualified officers and employees in coordination with State motor vehicle safety agencies. Individuals and businesses are not eligible to receive BEG funding. Applications must include a Border Enforcement Plan and meet the maintenance of expenditure (MOE) requirement. See link for the MOE explanation, http://www.fmcsa.dot.gov/safety-security/grants/beg/moe.aspx. The Border Enforcement Plan should be a performance-based proposal that represents innovative strategies to support, enrich, or evaluate CMV safety border programs.

BEG funding decisions take into consideration the State or entity's performance on previous BEG awards; ability to expend the awarded funds within the BEG performance year; and compliance of planned activities with the BEG national criteria established by FMCSA. Priority will be given to proposals for programs which:

• Ensure southern Border States are meeting all Federal requirements to allow access to Mexico-domiciled carriers beyond the border commercial zones;

• Increase the number of CMV safety inspections and commercial driver license (CDL), operating authority, and financial responsibility checks in Border States focusing on international traffic;

• Improve the capability to conduct CMV safety inspections at remote and other sites near the border (Use the list of eligible items in 49 CFR 350.311, relating to the Motor Carrier Safety Assistance Program, as a guide.);

• Develop appropriate telecommunication systems and coordination procedures with Federal inspection agencies and others. Appropriate telecommunication systems means those that relate directly to the accessing and transfer of CMV safety data and information including telecommunications systems and other items necessary to implement the International Trade Data Systems (ITDS);

• Involve other innovative initiatives designed to improve the compliance status of CMVs, drivers, and carriers entering the United States from Canada or Mexico;

• Involve research initiatives focused on cross-border enforcement and related issues; and

• Involve targeted inspections of CMVs on corridors where there is a significant amount of international traffic.

As established by SAFETEA-LU, the Federal share of these funds will be 100 percent, and there is no matching requirement.

Applications must be submitted electronically at the Federal Grants web site (http://www.grants.gov). Users must register in order to use Grants.gov. Registration can take between 3 to 5 business days or as long as two weeks if all steps are not completed in a timely manner. To register, visit http://www.grants.gov/applicants/get_registered.jsp. After registration, follow these steps to apply for the BEG:

1. Access the grant application page at https://apply07.grants.gov/apply/forms_apps_idx.html.

2. Type in the Catalogue of Federal Domestic Assistance (CFDA) Number “20.233” to retrieve and download the BEG application package.

3. Complete and save the BEG application off-line using Adobe® software. You can obtain Adobe Reader® free of charge at http://www.adobe.com.

4. Submit the BEG application package electronically at http://www.grants.gov/applicants/apply_for_grants.jsp.

Issued on: July 9, 2010.
William A. Quade,
Associate Administrator for Enforcement and Program Delivery.

[FR Doc. 2010-17135 Filed 7-13-10; 8:45 am]

BILLING CODE 4910-EX-P